NUCLEAR REGULATORY COMMISSION

Advisory Committee on Reactor Safeguards (ACRS); Notice of Cancellation of Meeting

The ACRS Subcommittee meeting on Materials, Metallurgy & Reactor Fuels scheduled for October 24, 2008, has been cancelled. This meeting was published previously in the Federal Register on Friday, October 3, 2008 (73 FR 57688).

For further information contact the Designated Federal Official Mr. Christopher L. Brown (Telephone: 301-415-7111) between 8:45 a.m. and 5:30 p.m. (ET).

Dated: October 8, 2008.
Cayetano Santos,
Branch Chief, ACRS.

[FR Doc. E8-24501 Filed 10-14-08; 8:45 am]

BILLING CODE 7590-01-P